FEDERAL ELECTION COMMISSION

Sunshine Act Meetings

FEDERAL REGISTER CITATION NOTICE OF PREVIOUS ANNOUNCEMENT: 87 FR 75251.

PREVIOUSLY ANNOUNCED TIME AND DATE OF THE MEETING: Tuesday, December 13, 2022 at 10:00 a.m. and its continuation at the conclusion of the open meeting on December 15, 2022.

CHANGES IN THE MEETING: The meeting also discussed:

Financial or commercial information obtained from any person which is privileged or confidential.

Information the premature disclosure of which would be likely to have a considerable adverse effect on the implementation of a proposed Commission action.

* * * * *

CONTACT PERSON FOR MORE INFORMATION: Judith Ingram, Press Officer. Telephone: (202) 694-1220.

(Authority: Government in the Sunshine Act, 5 U.S.C. 552b)

Vicktoria J. Allen,
Acting Deputy Secretary of the Commission.

[FR Doc. 2022-27676 Filed 12-16-22; 11:15 am]

BILLING CODE 6715-01-P